DEPARTMENT OF HEALTH AND HUMAN SERVICES

Administration for Children and Families

Submission for OMB Review; Family Violence Prevention and Services Program (OMB #0970-0280)

AGENCY: Family and Youth Services Bureau; Administration on Children, Youth and Families; Administration for Children and Families (ACF); HHS.

ACTION: Request for public comment.

SUMMARY: The Administration on Children, Youth and Families, Family and Youth Services Bureau plans to extend data collection for the Family Violence Prevention and Services Program (OMB #0970-0280; Expiration Date: March 31, 2021). No changes are proposed to the existing information collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Family Violence Prevention and Services Act (FVPSA) Program has a legislative requirement for grantees to report on activities carried out throughout their grant period and provide an evaluation on the effectiveness of the activities in achieving the purposes of the grant. Grantees must collect unduplicated data and only share non-personally identifying information, in the aggregate, regarding services to their clients in order to comply with federal, state, or tribal reporting, evaluation, or data collection requirements, 42 U.S.C. 10406(c)(5)(D). Client-level data shall not be shared with a third party, regardless of encryption, hashing, or other data security measures, without a written, time-limited release as described in 42 U.S.C. 10406(c)(5).

Respondents: FVPSA-funded grantees.

Annual Burden Estimates
Instrument | Number of respondents | Total number of responses per respondent | Average burden hours per response | Total burden hours | Annual burden hours
FVPSA State Grants Funding Opportunity Announcement | 52 | 1 | 10 | 520 | 173
FVPSA Tribes/Tribal Organizations Grants Funding Opportunity Announcement | 150 | 1 | 10 | 1,500 | 500
FVPSA State Domestic Violence Coalitions Grants Funding Opportunity Announcement | 56 | 1 | 10 | 560 | 187
State FVPSA Grant Performance Progress Report | 52 | 3 | 10 | 1,560 | 520
Tribal FVPSA Grant Performance Progress Report | 150 | 3 | 10 | 4,500 | 1,500
State Domestic Violence Coalition Performance Progress Report | 56 | 3 | 10 | 1,680 | 560

Estimated Total Annual Burden Hours: 3,440.

Authority: The Family Violence Prevention and Services Act, 42 U.S.C. 10401.

Mary B. Jones,
ACF/OPRE Certifying Officer.

[FR Doc. 2021-04776 Filed 3-5-21; 8:45 am]

BILLING CODE 4184-32-P